DEPARTMENT OF HEALTH AND HUMAN SERVICES

Administration for Children and Families

Submission for OMB Review; Comment Request; Refugee Microenterprise and Refugee Home-Based Child Care Microenterprise Development

OMB No.: New.

Description: New data collection tool for refugee microenterprise and Refugee Home-Based Child Care Microenterprise Program.

Respondents: Refugee Microenterprise Development Grantees and Refugee Home-Based Child Care Microenterprise Development.

Annual Burden Estimates
Instrument | Number of respondents | Number of responses per respondent | Average burden hours per response | Total burden hours
Refugee Microenterprise Development | 22 | 8 | 4 | 704
Refugee Home-Based Child Care Microenterprise Development | 23 | 7 | 4 | 644
Total Burden |  |  |  | 1,348

Estimated Total Annual Burden Hours: (1,340 hours × $30 per hour) $40,440 per year.

Explanation:

The Refugee Microenterprise Development Program

• Currently, there are twenty two grantees (respondents) in the program and the semi-annual progress, which includes the data and information required, is submitted twice per year.

• The request covers one form (Form I. attached) which includes eight data points. Based on experience (the information was provided by technical assistance service provider in the past), it takes about two hours per respondent per six months (i.e., four hours per year per grantee (respondent) or 88 hours per year for all respondents) to complete the form.

• No survey will be undertaken since the collection of this data (information) is part of the implementation process of the project and its collection and reporting does not constitute a separate and additional cost to the grantees (respondents). The cost is covered by the grant the grantee receives. The grantees have Down Home database which captures and stores the data required for reporting. The grantee uploads the semi-annual report in Grant Solution where it is stored. ORR derives the data it requires for reporting and management decision from Grant Solution.

The Refugee Home-Based Child Care Microenterprise Development Group

• Currently, there are twenty three grantees (respondents) in the program and the semi-annual progress.

• The request covers one form (Form II. attached) which includes seven data points. It takes about two hours per respondent per six months (i.e., four hours per year grantee (respondent) or 92 hours per year for all respondents) to complete the form.

• The collection of this data (information) is part of the process and its collection and reporting does not include separate and additional cost to the grantees (respondents). The cost is covered by the grant the grantee receives. The grantees have database which captures and stores the data required for reporting. The grantee uploads the data required in Grant Solution where it is stored. ORR derives the data it requires for reporting and management decision from Grant Solution.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-16700 Filed 7-14-16; 8:45 am]

BILLING CODE 4184-01-P